COMMITTEE FOR PURCHASE FROM PEOPLE WHO ARE BLIND OR SEVERELY DISABLED

Procurement List; Proposed Changes

AGENCY: Committee for Purchase From People Who Are Blind or Severely Disabled.

ACTION: Proposed changes to the Procurement List.

SUMMARY: The Committee is proposing to change requirements for products already existing on the Procurement List that will be furnished by nonprofit agencies employing persons who are blind or have other severe disabilities.

DATES: Comments must be received on or before: June 2, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Changes

If the Committee approves the proposed changes, the entities of the Federal Government identified in this notice will be required to procure the product(s) listed below from nonprofit agencies employing persons who are blind or have other severe disabilities.

Product(s)

NSN(s)—Product Name(s):

8415-01-623-5162—Coat, Army Combat Uniform, Permethrin, Unisex, OCP 2015, XS-XS

8415-01-623-5052—Coat, Army Combat Uniform, Permethrin, Unisex, OCP 2015, XS-XXS

8415-01-623-5165—Coat, Army Combat Uniform, Permethrin, Unisex, OCP 2015, XS-S

8415-01-623-5166—Coat, Army Combat Uniform, Permethrin, Unisex, OCP 2015, XS-R

8415-01-623-5169—Coat, Army Combat Uniform, Permethrin, Unisex, OCP 2015, XS-L

8415-01-623-5170—Coat, Army Combat Uniform, Permethrin, Unisex, OCP 2015, XS-XL

8415-01-623-5172—Coat, Army Combat Uniform, Permethrin, Unisex, OCP 2015, S-XXS

8415-01-623-5174—Coat, Army Combat Uniform, Permethrin, Unisex, OCP 2015, S-XS

8415-01-623-5178—Coat, Army Combat Uniform, Permethrin, Unisex, OCP 2015, S-S

8415-01-623-5180—Coat, Army Combat Uniform, Permethrin, Unisex, OCP 2015, S-R

8415-01-623-5182—Coat, Army Combat Uniform, Permethrin, Unisex, OCP 2015, S-L

8415-01-623-5236—Coat, Army Combat Uniform, Permethrin, Unisex, OCP 2015, S-XL

8415-01-623-5237—Coat, Army Combat Uniform, Permethrin, Unisex, OCP 2015, M-XXS

8415-01-623-5525—Coat, Army Combat Uniform, Permethrin, Unisex, OCP 2015, M-XS

8415-01-623-5526—Coat, Army Combat Uniform, Permethrin, Unisex, OCP 2015, M-S

8415-01-623-5528—Coat, Army Combat Uniform, Permethrin, Unisex, OCP 2015, M-R

8415-01-623-5529—Coat, Army Combat Uniform, Permethrin, Unisex, OCP 2015, M-L

8415-01-623-5534—Coat, Army Combat Uniform, Permethrin, Unisex, OCP 2015, M-XL

8415-01-623-5537—Coat, Army Combat Uniform, Permethrin, Unisex, OCP 2015, M-XXL

8415-01-623-5541—Coat, Army Combat Uniform, Permethrin, Unisex, OCP 2015, L-XXS

8415-01-623-5542—Coat, Army Combat Uniform, Permethrin, Unisex, OCP 2015, L-XS

8415-01-623-5543—Coat, Army Combat Uniform, Permethrin, Unisex, OCP 2015, L-S

8415-01-623-5552—Coat, Army Combat Uniform, Permethrin, Unisex, OCP 2015, L-R

8415-01-623-5553—Coat, Army Combat Uniform, Permethrin, Unisex, OCP 2015, L-L

8415-01-623-5554—Coat, Army Combat Uniform, Permethrin, Unisex, OCP 2015, L-XL

8415-01-623-5557—Coat, Army Combat Uniform, Permethrin, Unisex, OCP 2015, L-XXL

8415-01-623-5740—Coat, Army Combat Uniform, Permethrin, Unisex, OCP 2015, XL-XXS

8415-01-623-5742—Coat, Army Combat Uniform, Permethrin, Unisex, OCP 2015, XL-XS

8415-01-623-5789—Coat, Army Combat Uniform, Permethrin, Unisex, OCP 2015, XL-S

8415-01-623-5790—Coat, Army Combat Uniform, Permethrin, Unisex, OCP 2015, XL-R

8415-01-623-5793—Coat, Army Combat Uniform, Permethrin, Unisex, OCP 2015, XL-L

8415-01-623-5795—Coat, Army Combat Uniform, Permethrin, Unisex, OCP 2015, XL-XL

8415-01-623-5796—Coat, Army Combat Uniform, Permethrin, Unisex, OCP 2015, XL-XXL

8415-01-623-5797—Coat, Army Combat Uniform, Permethrin, Unisex, OCP 2015, XXL-R

8415-01-623-5801—Coat, Army Combat Uniform, Permethrin, Unisex, OCP 2015, XXL-L

8415-01-623-5803—Coat, Army Combat Uniform, Permethrin, Unisex, OCP 2015, XXL-XL

8415-01-623-5805—Coat, Army Combat Uniform, Permethrin, Unisex, OCP 2015, XXL-XXL

Authorized Source of Supply: Goodwill Industries of South Florida, Inc., Miami, FL

Authorized Source of Supply: ReadyOne Industries, Inc., El Paso, TX

Authorized Source of Supply: Blind Industries & Services of Maryland, Baltimore, MD

Authorized Source of Supply: Industries of the Blind, Inc., Greensboro, NC

Contracting Activity: DEFENSE LOGISTICS AGENCY, DLA TROOP SUPPORT

The Coats, Army Combat Uniform, Permethrin, Unisex, OCP 2015 were administratively added to the Procurement List 04/15/20105 in accordance with 41 CFR 51-6.13(b), as an additional size, color or other variation of an existing PL product. The requirement on the PL was eventually changed to 28.1% of DLA Troop Support's total requirement. However, when possible and to ensure clarity on existing PL requirements for military garments, or other applicable products, the Committee is departing from stating the mandatory purchase requirement as a percentage of a contracting activity's overall requirement and is instead stating the mandatory purchase requirement as a specified annual quantity of a garment or product. For the Coats, Army Combat Uniform, Permethrin, Unisex, OCP 2015, DLA Troop Support and the authorized sources of supply, assisted by the central nonprofit agency, have agreed that the mandatory purchase requirement is 447,000 units annually. The Committee intends to amend the Procurement List and reflect the agreed annual quantity. Additionally, for administrative purposes, the Committee is assigning a new PL number to the Coats, Army Combat Uniform, Permethrin, Unisex, OCP 2015, which will sever the coats as a legacy from garments no longer being produced and increase the Committee's overall efficiency when processing future transactions.

NSN(s)—Product Name(s):

8415-01-623-3923—Trousers, Army Combat Uniform, Permethrin, Unisex, OCP 2015, XS-XS

8415-01-623-3926—Trousers, Army Combat Uniform, Permethrin, Unisex, OCP 2015, XS-S

8415-01-623-3927—Trousers, Army Combat Uniform, Permethrin, Unisex, OCP 2015, XS-R

8415-01-623-3928—Trousers, Army Combat Uniform, Permethrin, Unisex, OCP 2015, XS-L

8415-01-623-3929—Trousers, Army Combat Uniform, Permethrin, Unisex, OCP 2015, XS-XL

8415-01-623-3931—Trousers, Army Combat Uniform, Permethrin, Unisex, OCP 2015, XS-XXL

8415-01-623-4172—Trousers, Army Combat Uniform, Permethrin, Unisex, OCP 2015, S-XS

8415-01-623-4175—Trousers, Army Combat Uniform, Permethrin, Unisex, OCP 2015, S-S

8415-01-623-4176—Trousers, Army Combat Uniform, Permethrin, Unisex, OCP 2015, S-R

8415-01-623-4177—Trousers, Army Combat Uniform, Permethrin, Unisex, OCP 2015, S-L

8415-01-623-4179—Trousers, Army Combat Uniform, Permethrin, Unisex, OCP 2015, S-XL

8415-01-623-4181—Trousers, Army Combat Uniform, Permethrin, Unisex, OCP 2015, S-XXL

8415-01-623-4183—Trousers, Army Combat Uniform, Permethrin, Unisex, OCP 2015, M-XS

8415-01-623-4184—Trousers, Army Combat Uniform, Permethrin, Unisex, OCP 2015, M-S

8415-01-623-4186—Trousers, Army Combat Uniform, Permethrin, Unisex, OCP 2015, M-R

8415-01-623-4187—Trousers, Army Combat Uniform, Permethrin, Unisex, OCP 2015, M-L

8415-01-623-4541—Trousers, Army Combat Uniform, Permethrin, Unisex, OCP 2015, M-XL

8415-01-623-4542—Trousers, Army Combat Uniform, Permethrin, Unisex, OCP 2015, M-XXL

8415-01-623-4543—Trousers, Army Combat Uniform, Permethrin, Unisex, OCP 2015, L-XS

8415-01-623-4544—Trousers, Army Combat Uniform, Permethrin, Unisex, OCP 2015, L-S

8415-01-623-4546—Trousers, Army Combat Uniform, Permethrin, Unisex, OCP 2015, L-R

8415-01-623-4547—Trousers, Army Combat Uniform, Permethrin, Unisex, OCP 2015, L-L

8415-01-623-4548—Trousers, Army Combat Uniform, Permethrin, Unisex, OCP 2015, L-XL

8415-01-623-4550—Trousers, Army Combat Uniform, Permethrin, Unisex, OCP 2015, L-XXL

8415-01-623-4734—Trousers, Army Combat Uniform, Permethrin, Unisex, OCP 2015, XL-XS

8415-01-623-4736—Trousers, Army Combat Uniform, Permethrin, Unisex, OCP 2015, XL-S

8415-01-623-4737—Trousers, Army Combat Uniform, Permethrin, Unisex, OCP 2015, XL-R

8415-01-623-4738—Trousers, Army Combat Uniform, Permethrin, Unisex, OCP 2015, XL-L

8415-01-623-4743—Trousers, Army Combat Uniform, Permethrin, Unisex, OCP 2015, XL-XL

8415-01-623-4745—Trousers, Army Combat Uniform, Permethrin, Unisex, OCP 2015, XL-XXL

8415-01-623-4762—Trousers, Army Combat Uniform, Permethrin, Unisex, OCP 2015, XXL-XS

8415-01-623-4763—Trousers, Army Combat Uniform, Permethrin, Unisex, OCP 2015, XXL-S

8415-01-623-4765—Trousers, Army Combat Uniform, Permethrin, Unisex, OCP 2015, XXL-R

8415-01-623-4766—Trousers, Army Combat Uniform, Permethrin, Unisex, OCP 2015, XXL-L

8415-01-623-4767—Trousers, Army Combat Uniform, Permethrin, Unisex, OCP 2015, XXL-XL

8415-01-623-4768—Trousers, Army Combat Uniform, Permethrin, Unisex, OCP 2015, XXL-XXL

Authorized Source of Supply: Goodwill Industries of South Florida, Inc., Miami, FL

Authorized Source of Supply: ReadyOne Industries, Inc., El Paso, TX

Authorized Source of Supply: Dallas Lighthouse for the Blind, Inc., Dallas, TX

Contracting Activity: DEFENSE LOGISTICS AGENCY, DLA TROOP SUPPORT

The Trousers, Army Combat Uniform, Permethrin, Unisex, OCP 2015 were administratively added to the Procurement List 04/21/2015 in accordance with 41 CFR 51-6.13(b), as an additional size, color or other variation of an existing PL product. The requirement on the PL was eventually changed to 35.3% of DLA Troop Support's total requirement. However, when possible and to ensure clarity on existing PL requirements for military garments, or other applicable products, the Committee is departing from stating the mandatory purchase requirement as a percentage of a contracting activity's overall requirement and is instead stating the mandatory purchase requirement as a specified annual quantity of a garment or product. For the Trousers, Army Combat Uniform, Permethrin, Unisex, OCP 2015, DLA Troop Support and the authorized sources of supply, assisted by the central nonprofit agency, have agreed that the mandatory purchase requirement is 240,000 units annually. The Committee intends to amend the Procurement List and reflect the agreed annual quantity. Additionally, for administrative purposes, the Committee is assigning a new PL number to the Trousers, Army Combat Uniform, Permethrin, Unisex, OCP 2015, which will sever the garments as a legacy from garments no longer being produced and increase the Committee's overall efficiency when processing future transactions.

Michael R. Jurkowski,
Director, Business Operations.

[FR Doc. 2024-09704 Filed 5-2-24; 8:45 am]

BILLING CODE 6353-01-P